DEPARTMENT OF TRANSPORTATION

Federal Aviation Administration

14 CFR Part 71

[Docket No. FAA-2018-0137; Airspace Docket No. 18-ACE-2]

RIN-2120-AA66

Amendment and Establishment of Class E Airspace; Columbus, NE

AGENCY: Federal Aviation Administration (FAA), DOT.

ACTION: Final rule.

SUMMARY: This action modifies Class E airspace designated as a surface area and makes the airspace full-time and removes the airspace part-time status and language from the airspace legal description, amends Class E airspace extending upward from 700 feet above the surface, and establishes Class E airspace designated as an extension to the Class E surface area at Columbus Municipal Airport, Columbus, NE. This action is at the request of Minneapolis Air Route Traffic Control Center (ARTCC) and the result of an FAA airspace review. Additionally, the geographic coordinates of the airport are updated to coincide with the FAA's aeronautical database. This action is necessary for the safety and management of instrument flight rules (IFR) operations at this airport.

DATES: Effective 0901 UTC, November 8, 2018. The Director of the Federal Register approves this incorporation by reference action under Title 1, Code of Federal Regulations, part 51, subject to the annual revision of FAA Order 7400.11 and publication of conforming amendments.

ADDRESSES: FAA Order 7400.11B, Airspace Designations and Reporting Points, and subsequent amendments can be viewed online at http://www.faa.gov/air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11B at NARA, call (202) 741-6030, or go to https://www.archives.gov/federal-register/cfr/ibr-locations.html.

FAA Order 7400.11, Airspace Designations and Reporting Points, is published yearly and effective on September 15.

FOR FURTHER INFORMATION CONTACT: Jeffrey Claypool, Federal Aviation Administration, Operations Support Group, Central Service Center, 10101 Hillwood Parkway, Fort Worth, TX 76177; telephone (817) 222-5711.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends Class E airspace designated as a surface area, amends Class E airspace extending upward from 700 feet above the surface, and establishes Class E airspace designated as an extension to the Class E surface area at Columbus Municipal Airport, Columbus, NE to support IFR operations at the airport.

History

The FAA published a notice of proposed rulemaking (NPRM) in the Federal Register (83 FR 13438; March 29, 2018) for Docket No. FAA-2018-0137 to amend Class E airspace designated as a surface area and make the airspace full-time and remove the airspace part-time status and language from the airspace legal description, amend Class E airspace extending upward from 700 feet above the surface, and establish Class E airspace designated as an extension to the Class E surface area at Columbus Municipal Airport, Columbus, NE. Interested parties were invited to participate in this rulemaking effort by submitting written comments on the proposal to the FAA. No comments were received.

Subsequent to publication, the FAA discovered the following typographical errors: In the Class E airspace designated as a surface area airspace legal description, the airspace radius should be 4.2 vice 4.7; and the geographic coordinates for Columbus Municipal Airport in the classes of airspace shown should be (lat. 41°26′55″ N, long. 97°20′27″ W) vice (lat. 41°26′55″ N, long. 97°20′34″ W). These errors are corrected with this action.

Class E airspace designations are published in paragraph 6002, 6004, and 6005, respectively, of FAA Order 7400.11B, dated August 3, 2017, and effective September 15, 2017, which is incorporated by reference in 14 CFR 71.1. The Class E airspace designations listed in this document will be published subsequently in the Order.

Availability and Summary of Documents for Incorporation by Reference

This document amends FAA Order 7400.11B, Airspace Designations and Reporting Points, dated August 3, 2017, and effective September 15, 2017. FAA Order 7400.11B is publicly available as listed in the ADDRESSES section of this document. FAA Order 7400.11B lists Class A, B, C, D, and E airspace areas, air traffic service routes, and reporting points.

The Rule

The FAA amends Title 14, Code of Federal Regulations (14 CFR) part 71 by: Amending the Class E airspace designated as a surface area to within a 4.2-mile radius (reduced from a 4.7-mile radius) at Columbus Municipal Airport, Columbus, NE; removing the Columbus VOR/DME and the extensions to the southeast and northwest of the airport as they are no longer needed to define this boundary; making the airspace full-time and removing the part-time status and language from the airspace legal description; and updating the geographic coordinates of the airport to coincide with the FAA's aeronautical database;

Establishing Class E airspace designated as an extension to the Class E surface area at Columbus Municipal Airport within 2.4 miles each side of the Columbus VOR/DME 150° radial from the 4.2-mile radius of the airport to 7.0 miles southeast of the airport, and within 2.4 miles each side of the Columbus VOR/DME 309° radial from the 4.2-mile radius of the airport to 7.7 miles northwest of the airport; and

Amending Class E airspace extending upward from 700 feet above the surface to within a 6.7-mile radius (reduced from a 7.7-mile radius) of Columbus Municipal Airport; removing the Columbus Municipal ILS Localizer, Platte Center NDB, and the associated northwest extension; amending the extension to the southeast to within 2.4 miles (increased from 1.6 miles) each side of the Columbus VOR/DME 150° (previously 157°) radial from the 6.7-mile radius to 7.0 miles (decreased from 11 miles) southeast of the airport; adding an extension 2.4 miles each side of the Columbus VOR/DME 309° radial extending from the 6.7-mile radius to 7.7 miles northeast of the airport; and updating the geographic coordinates of the airport to coincide with the FAA's aeronautical database.

The NPRM incorrectly stated the geographic coordinates of the airport noted in the classes of airspace and are corrected in this rule to (lat. 41°26′55″ N, long. 97°20′27″ W).

Airspace reconfiguration is necessary due to a request from Minneapolis ARTCC, to bring the airspace into compliance with FAA Order 7400.2L, Procedures for Handling Airspace, and to support the safety and management of IFR operations at the airport.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5.a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11B, Airspace Designations and Reporting Points, dated August 3, 2017, and effective September 15, 2017, is amended as follows:

Paragraph 6002 Class E Airspace Areas Designated as Surface Areas.

* * * * *

ACE NE E2 Columbus, NE [Amended]

Columbus Municipal Airport, NE

(Lat. 41°26′55″ N, long. 97°20′27″ W)

Within a 4.2 mile radius of Columbus Municipal Airport.

Paragraph 6004 Class E Airspace Areas Designated as an Extension to a Class D or Class E Surface Area.

* * * * *

ACE MO E4 Columbus, NE [New]

Columbus Municipal Airport, NE

(Lat. 41°26′55″ N, long. 97°20′27″ W)

Columbus VOR/DME

(Lat. 41°27′00″ N, long. 97°20′27″ W)

That airspace extending upward from the surface within 2.4 miles each side of the Columbus VOR/DME 150° radial extending from the 4.2-mile radius of Columbus Municipal Airport to 7.0 miles southeast of the airport, and within 2.4 miles each side of the Columbus VOR/DME 309° radial extending from the 4.2-mile radius of Columbus Municipal Airport to 7.7 miles northwest of the airport.

Paragraph 6005 Class E Airspace Areas Extending Upward From 700 Feet or More Above the Surface of the Earth.

* * * * *

ACE NE E5 Columbus, NE [Amended]

Columbus Municipal Airport, NE

(Lat. 41°26′55″ N, long. 97°20′27″ W)

Columbus VOR/DME

(Lat. 41°27′00″ N, long. 97°20′27″ W)

That airspace extending upward from 700 feet above the surface within a 6.7-mile radius of Columbus Municipal Airport and within 2.4 miles each side of the Columbus VOR/DME 150° radial extending from the 6.7-mile radius to 7.0 miles southeast of the airport and within 2.4 miles each side of the Columbus VOR/DME 309° radial extending from the 6.7-mile radius to 7.7 miles northwest of the airport.

Issued in Fort Worth, Texas, on July 17, 2018.
Walter Tweedy,
Acting Manager, Operations Support Group, ATO Central Service Center.

[FR Doc. 2018-16679 Filed 8-3-18; 8:45 am]

BILLING CODE 4910-13-P